FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011587-008.

Title: United States South Europe Conference.

Parties: A.P. Moller-Maersk Sealand, P&O Nedlloyd Limited.

Synopsis: The proposed amendment adds Greece, Cyprus, and Crete to the geographic scope of the agreement.

Agreement No.: 201111.

Title: Broward County-Seaescape Passenger Cruise Wharfage Agreement.

Parties: Broward County, Seaescape Entertainment, Inc.

Synopsis: The agreement is a daily passenger cruise wharfage agreement for certain facilities in Port Everglades. The agreement runs through September 30, 2010.

By Order of the Federal Maritime Commission.
Dated: November 16, 2000.
Bryant L. VanBrakle,
Secretary.

[FR Doc. 00-29822 Filed 11-21-00; 8:45 am]

BILLING CODE 6730-01-P